FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Greating Marine Inc., 2225 W. Commonwealth Ave., Suite #316, Alhambra, CA 91803, Officers: Eugene Yu Chiang, Operation Manager (Qualifying Individual), Ho The Chang, President

Hana Logistics, Inc. 1123 E. Dominguez Street Carson, CA 90746 Officers: Jung Hyun Oh, President (Qualifying Individual), Helen Jun, Secretary

Skythech International, Inc., 145-38 157th Street, Jamaica, NY 11434, Officer: Yun Seok Lee, President, Qualifying Individual

West Point International Shipping Co., 509 Summerbreeze Drive, Newark, DE 19702, Mary O. Atupulazi, Sole Proprietor

Dart Express (NYC) Inc., 177-14 149th Road, Jamaica, NY 11434, Officers: Kwok Keung Wong, Vice President (Qualifying Individual), Joseph Pang, Director

Kasy Logistics Co., Ltd., 8050 Florence Avenue, Suite 30, Downey, CA 90240, Officers: Paul Kee-Nui Leung, Chief Financial Officer (Qualifying Individual), Ying Chen, CEO

Willmar International, Inc., 975 Navajo Drive, Bluffton, OH 45817, Officer: William T. Martin, President (Qualifying Individual)

Crescent Ocean Services, LLC dba Crescent Ocean Services, 5100 South Dawson Street, Suite 200, Seattle, WA 98118, Officer: Christopher J. Clark, General Manager (Qualifying Individual)

Worldwide Logistics Partner Inc. dba WWLP Inc., 720 Industrial Drive, Suite 109, Cary, IL 60013, Officers: Mitesh P. Kamdar, Director (Qualifying Individual), Jim Ehrbar, Vice President of Sales

A.N.I. Cargo Services Inc., 6931 NW 87th Avenue, Miami, FL 33178, Officers: Stephen Chang, President (Qualifying Individual), Allan Grant, Vice President

DLS Freight Services (SFO) Ltd. dba DLS Logistic Service, 840 Hinckley Road, Suite #110, Burlingame, CA 94010, Officers: Elaine Pan, CFO (Qualifying Individual), Iris Meng, President

Global Brilliant Logistics Corp., 343 N. Wood Dale, Suite 102, Wood Dale, IL 60191, Officer: Veronica Knycha, President (Qualifying Individual)

Non-Vessel Operating Common Carrier and Ocean Freight Forwarder Transportation Intermediary Applicants

R.S. Logistics Inc., 700 Plaza Drive, Secaucus, NJ 07094, Officers: Gregory Shiu, Vice President (Qualifying Individual), Ling Wan, Director

A Customs Brokerage, Inc., 656 South Drive, Miami Springs, FL 33166, Officers: Gilda Castillo, Vice President (Qualifying Individual), Gabriel T. Rodriguez, President

GPS Logistics, Inc., 175-18 147th Avenue, Jamaica, NY 11434, Officers: Paul Fitzpatrick, President (Qualifying Individual), Peter T.C. Chow, Secretary

Annex Global Logistics Inc., 808 South Hindry Avenue, Suite E, Inglewood, CA 90301, Officer: Charles Wong, President (Qualifying Individual)

Klasman-Varnak USA, Inc., 14 Laurel Hill Terrace, Kearny, NJ 07032, Officers: Kemal M. Guler, Vice President (Qualifying Individual), Vilmaz Nalcakar, President

Trans Caribbean Cargo International, Inc., 1601 NW 70th Avenue, Suite 101, Miami, FL 33126, Officers: Lt. Col. Lawrence H. London, CEO (Qualifying Individual), Ian Davis, President

Dated: April 19, 2002.
Bryant L. VanBrakle,
Secretary.

[FR Doc. 02-10062 Filed 4-23-02; 8:45 am]

BILLING CODE 6730-01-P